DEPARTMENT OF THE INTERIOR

Bureau of Land Management

[MT-924-1430-ET; MTM 26024]

Opening of Land; Montana

AGENCY: Bureau of Land Management, Interior.

ACTION: Notice.

SUMMARY: Public Land Order No. 6091, which withdrew 13.42 acres of National Forest System land from location and entry under the United States mining laws for a fire guard station, expired November 22, 2001, by operation of law. This action will open the land to mining. The land has been and will remain open to such forms of disposition as may by law be made of National Forest System lands.

EFFECTIVE DATE: December 21, 2001.

FOR FURTHER INFORMATION CONTACT: Sandra Ward, BLM Montana State Office, P.O. Box 36800, Billings, Montana 59107, 406-896-5052.

SUPPLEMENTARY INFORMATION: Public Land Order No. 6091, published in the Federal Register November 23, 1981 (46 FR 57289), withdrew 13.42 acres of National Forest System land for a period of 20 years for the Thompson Gulch Fire Guard Station. The public land order expired November 22, 2001, by operation of law. The following land is hereby opened to location and entry under the United States mining laws:

Helena National Forest

Principal Meridian, Montana

T. 9 N., R. 4 E.,

Secs. 22 and 27, a tract of land lying in the SE¼SW¼ of section 22 and the NE¼NW¼ of section 27, more particularly described as follows:

Beginning at the brass cap quarter corner monument between sections 22 and 27 which is Corner No. 1, the true point of beginning: thence S. 66°38′ W., 656.82 feet to Corner No. 2; thence N. 40°37′ W., 597.80 feet to Corner No. 3; thence N. 57°01′ E., 994.03 feet to Corner No. 4; thence N. 83°40′ E., 129.10 feet to Corner No. 5; thence S. 02°15′ E., 749.46 feet to the true point of beginning.

The area described contains 13.42 acres in Meagher County.

At 9 a.m. on December 21, 2001, the land shall be opened to location and entry under the United States mining laws, subject to valid existing rights, the provisions of existing withdrawals, other segregations of record, and the requirements of applicable law. Appropriation of any land described in this order under the general mining laws prior to the date and time of restoration is unauthorized. Any such attempted appropriation, including attempting adverse possession under 30 U.S.C. 38 (1994), shall vest no rights against the United States. Acts required to establish a location and to initiate a right of possession are governed by State law where not in conflict with Federal law. The Bureau of Land Management will not intervene in disputes between rival locators over possessory rights, since Congress has provided for such determinations in local courts.

Dated: November 6, 2001.
Thomas P. Lonnie,
Deputy State Director, Division of Resources.

[FR Doc. 01-31402 Filed 12-20-01; 8:45 am]

BILLING CODE 4310-$$-P